DEPARTMENT OF JUSTICE

Notice of Lodging of Consent Decree in United States v. Lorain County Metropolitan Park District, et al. Under the Comprehensive Environmental Response, Compensation and Liability Act (CERCLA)

Notice is hereby given that on December 30, 2008, a proposed Consent Decree was lodged with the United States District Court for the Northern District of Ohio in United States v. Lorain County Metropolitan Park District, et al., Case No. 1:08-cv-03026-AA. The Consent Decree between the United States, on behalf of the U.S. Environmental Protection Agency (“U.S. EPA”), and the Settling Defendants relates to certain liabilities under the Comprehensive Environmental Response, Compensation and Liability Act (“CERCLA”), 42 U.S.C. 9601 et seq., in connection with the Ford Road Industrial Landfill Superfund Site in Elyria, Ohio (the “Site”).

Under the proposed settlement, Settling Defendants will perform the $3.4 million remedy at the Site, which includes cover enhancement, hot spot removal, and groundwater monitoring, and will reimburse future response costs incurred by U.S. EPA in overseeing the response work.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Lorain County Metropolitan Park District, et al., DJ Ref. No. 90-11-3-09102.

The Consent Decree may be examined at the Office of the United States Attorney for the Northern District of Ohio, 801 West Superior Avenue, Suite 400, Cleveland, OH 44113, by request to Assistant U.S. Attorney Steven J. Paffilas, and at the U.S. EPA Region V, 77 West Jackson Blvd., Chicago, IL 60604. During the public comment period, the Consent Decree may also be examined on the following Department of Justice Web site: http://www.u sdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (25 cents per page reproduction cost) payable to the U.S. Treasury.

William D. Brighton,
Assistant Section Chief, Environmental Enforcement Section, Environment and Natural Resources Division.

[FR Doc. E9-87 Filed 1-7-09; 8:45 am]

BILLING CODE 4410-15-P